DEPARTMENT OF ENERGY

Federal Energy Regulatory Commission

[Docket No. RP00-449-000]

Young Gas Storage Company, Ltd.; Notice of Tariff Filing

August 14, 2000.

Take notice that on August 8, 2000, Young Gas Storage Company, Ltd. (Young), P.O. Box 1087, Colorado Springs, Colorado 80944, tendered for filing to become part of its FERC Gas Tariff, Original Volume No. 1, tariff sheets as listed in Appendix A of filing.

Young states these tariff sheets reflect the changes to its tariff to comply with the requirements of Order Nos. 637, 637-A and 637-B (“Order”). Effective March 27, 2000, Order No. 637 removed the maximum rate ceiling applicable to capacity releases of less than one year. The rate ceiling will be reinstated at the start of the gas day on September 30, 2002, unless the Commission takes future action to extend the removal of the rate ceiling.

Young further states that copies of this filing have been served on Young's jurisdictional customers and public bodies.

Any person desiring to be heard or to protest said filing should file a motion to intervene or a protest with the Federal Energy Regulatory Commission, 888 First Street, N.E., Washington, D.C. 20426, in accordance with Sections 385.214 and 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222) for assistance).

David P. Boergers,
Secretary.

[FR Doc. 00-21027 Filed 8-17-00; 8:45 am]

BILLING CODE 6717-01-M